DEPARTMENT OF EDUCATION

34 CFR Part 676

Federal Supplemental Educational Opportunity Grant Program

AGENCY: Department of Education.

ACTION: Notice of relief from specific statutory and regulatory provisions.

SUMMARY: We announce relief from specific statutory and regulatory provisions governing the Federal Supplemental Educational Opportunity Grant (FSEOG) Program for the 1999-2000 and 2000-2001 award years. This statutory and regulatory relief applies to additional emergency FSEOG funds provided under recently enacted provisions of the Consolidated Appropriations Act for Fiscal Year 2000. These emergency FSEOG funds can be used only to assist individuals who suffered financial harm from Hurricanes Dennis and Floyd, and the flooding associated with these hurricanes, that struck the eastern United States in August and September 1999.

EFFECTIVE DATE: Febraury 2, 2000.

FOR FURTHER INFORMATION CONTACT: Kathy S. Gause, U.S. Department of Education, 400 Maryland Avenue, SW, Regional Office Building 3, Room 3045, Washington, DC 20202-5447. Telephone: (202) 708-8242. If you use a telecommunications device for the deaf (TDD), you may call the Federal Information Relay Service (FIRS) at 1-800-877-8339.

Individuals with disabilities may obtain this document in an alternate format (e.g., Braille, large print, audiotape, or computer diskette) by contacting the Alternate Format Center at (202) 260-9895.

SUPPLEMENTARY INFORMATION: Many student financial aid applicants and recipients have been adversely affected by Hurricanes Dennis and Floyd, and the flooding associated with these hurricanes. The President signed the Consolidated Appropriations Act for Fiscal Year 2000 (Pub. L. 106-113) on November 29, 1999, that provides an additional emergency appropriation of $10 million for allocations to institutions of higher education for Federal Supplemental Educational Opportunity Grants (FSEOGs) made under Title IV, part A, subpart 3, of the Higher Education Act of 1965, as amended (HEA). The additional emergency FSEOG funds are being specifically provided for the purpose of assisting students who have suffered financial harm as a result of Hurricane Dennis or Hurricane Floyd, and are for use during award years 1999-2000 and 2000-2001. We informed institutions of the means to request these emergency FSEOG funds in an announcement dated January 7, 2000, that was issued on the Information for Financial Aid Professionals (IFAP) Web site (http://ifap.ed.gov).

To facilitate the use of these additional emergency FSEOG funds, the Consolidated Appropriations Act also grants the Secretary authority to waive or modify any statutory or regulatory provisions, applicable to the FSEOG Program, necessary to assist individuals who suffered financial harm resulting from these natural disasters.

We have already provided certain regulatory relief to lenders and guaranty agencies in the Federal Family Education Loan Program under section 432(a)(6) of the HEA and 34 CFR 682.406(b) and 682.413(f). The guaranty agency directors were informed of this relief in a letter dated August 5, 1999 as Disaster Letter 99-28. We have also provided guidance for helping Title IV participants affected by Hurricane Floyd in a Dear Partner letter published in September 1999 as GEN-99-27.

Covered Individuals

This notice is intended to assist individuals who suffered financial harm as a result of Hurricanes Dennis and Floyd in 1999. This notice will apply only to students who, at the time of the disaster, were residing in, employed in, or attending an institution of higher education located in an area designated as a Federally declared natural disaster area (or, in the case of an individual who is a dependent student, whose parent or stepparent suffered financial harm from that disaster, and who resided or was employed in such an area at that time).

A list of those areas designated as a Federally declared natural disaster due to these hurricanes is available by State on the Federal Emergency Management Agency's (FEMA) Web site (http://www.fema.gov/library/diz99.htm). The nine States that had areas designated as a Federally declared natural disaster due to these hurricanes are Delaware, Florida, Maryland, New Jersey, New York, North Carolina, Pennsylvania, South Carolina, and Virginia.

This notice of statutory and regulatory relief will be applicable only for awards made under the FSEOG Program from the additional emergency appropriation of $10 million during the 1999-2000 and 2000-2001 award years (the periods from July 1, 1999 to June 30, 2000 and July 1, 2000 to June 30, 2001).

For the awarding of the additional emergency appropriation of $10 million in FSEOG funds allocated to institutions under the Consolidated Appropriations Act for Fiscal Year 2000, we provide the following waivers and modifications of specific statutory and regulatory provisions governing the FSEOG Program:

1. Section 413D of the HEA—Allocation of Funds and 34 CFR 673.4 Allocation and Reallocation of FSEOG Funds

To assist affected individuals, the Secretary has decided to modify the applicable statutory and regulatory formula requirements for allocating FSEOG funds to institutions. During the 1999-2000 award year, the additional emergency FSEOG funds will be allocated for use during the 1999-2000 and 2000-2001 award years, to participating institutions from the designated States. An institution must submit a request, in the format and by the deadline required by the Secretary, for these funds to assist students enrolled at that institution who suffered financial harm as a result of Hurricane Dennis or Hurricane Floyd.

Also, to assist affected individuals, the Secretary has decided to waive the applicable statutory and regulatory penalty for unexpended FSEOG allocations. This penalty is being waived for these additional emergency FSEOG funds to best achieve the purpose of not having these funds impact future allocations. Therefore, the allocation from the additional emergency FSEOG funds will not be used in determining whether an institution returned more than 10 percent of its FSEOG allocation that would result in a reduction of its allocation for the second succeeding award year by the dollar amount unexpended. Upon the return of any of these funds to us, the institution must identify these funds as part of the additional amount of FSEOG funds awarded to institutions to assist individuals who suffered financial harm resulting from Hurricanes Dennis and Floyd and their aftermath.

2. Section 413C of the HEA Agreements With Institutions; Selection of Recipients and 34 CFR 676.10 Selection of Students for FSEOG Awards

To assist affected individuals, the Secretary has decided to waive the applicable statutory and regulatory priority order selection requirements for awarding FSEOG funds. The institution does not have to award these additional emergency FSEOG funds in lowest Expected Family Contribution order or give a priority to Federal Pell Grant recipients.

Also, to assist affected individuals, the Secretary has decided to waive the applicable statutory and regulatory requirements for offering a reasonable proportion of these emergency FSEOG funds to less-than-full-time and independent students. The institution may award these additional emergency FSEOG funds to an otherwise eligible student affected by Hurricane Dennis or Hurricane Floyd who demonstrates financial need.

The institution must document in the student's file that the funds awarded are part of these additional emergency FSEOG funds. The institution must also document in the student's file that the student, or the student's family, is from one of the designated areas and suffered financial harm as a result of Hurricane Dennis or Hurricane Floyd.

3. Section 413E of the HEA—Carryover and Carryback Authority and 34 CFR 676.18 Use of Funds

To assist affected individuals, the Secretary has decided to modify the applicable statutory and regulatory carry forward authority for the additional emergency FSEOG funds received for the 1999-2000 award year. The existing authority allows an institution to carry forward no more than 10 percent of its current award year FSEOG funds to spend in the next year. However, the institution may carry forward any amount of the emergency FSEOG funds necessary to be used in the 2000-2001 award year. Any of the additional emergency FSEOG funds that are not spent by the end of the 2000-2001 award year (June 30, 2001) must be returned to the Department.

4. Section 413C of the HEA—Agreements With Institutions; Selection of Recipients and 34 CFR 676.21 FSEOG Federal Share Limitations

To assist affected individuals, the Secretary has decided to waive the applicable statutory and regulatory requirement that the Federal share of FSEOG awards made by an institution may not exceed 75 percent. The Federal share for these additional emergency FSEOG funds may be 100 percent. The institution must document in its records that it used this waiver of the Federal share limitation requirement for these additional emergency FSEOG funds.

Electronic Access to This Document

You may view this document, as well as all other Department of Education documents published in the Federal Register, in text or Adobe Portable Document Format (PDF) on the Internet at the following sites:

http://ocfo.ed.gov/fedreg.htm

http://www.ed.gov/news.html

http://ifap.ed.gov/csb_html/fedlreg.htm

To use the PDF you must have the Adobe Acrobat Reader Program with Search, which is available free at the first of the previous sites. If you have questions about using the PDF, call the U.S. Government Printing Office (GPO) toll free, at 1-888-293-6498; or in the Washington, D.C., area at (202) 512-1530.

Note: The official version of this document is the document published in the Federal Register. Free Internet access to the official edition of the Federal Register and the Code of Federal Regulations is available on GPO Access at: http://www.access.gpo.gov/nara/index.html

(Catalog of Federal Domestic Assistance Number: 84.007)
(Legal Authority: Pub. L. 106-113 and 20 U.S.C. 1082)
Dated: January 27, 2000.
Richard W. Riley,
Secretary of Education.

[FR Doc. 00-2234 Filed 1-28-00; 1:33 pm]

BILLING CODE 4000-01-U